DEPARTMENT OF LABOR

Employment and Training Administration

[NAFTA-5480]

AA Precisioneering, Inc., Meadville, PA; Notice of Negative Determination Regarding Application for Reconsideration

By application dated May 22, 2002, the company requested administrative reconsideration of the Department's negative determination regarding eligibility to apply for North American Free Trade Agreement-Transitional Adjustment Assistance (NAFTA-TAA), applicable to workers and former workers of the subject firm. The denial notice was signed on April 26, 2002, and was published in the Federal Register on May 17, 2002 (67 FR 35144).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The denial of NAFTA-TAA for workers engaged in activities related to the production of tools, dies, specialty tooling and injection molds at AA Precisioneering, Inc., Meadville, Pennsylvania was based on the finding that criteria (3) and (4) of the group eligibility requirements of paragraph (a)(1) of section 250 of the Trade Act, as amended, were not met. There were no increased company imports of tools, dies, specialty tooling and injection molds from Mexico or Canada, nor did the subject firm shift production from AA Precisioneering, Inc, Meadville, Pennsylvania to Mexico or Canada. The survey conducted by the Department of Labor revealed that customers did not purchase products like or directly competitive with those produced at the Meadville plant from Canada or Mexico during the relevant period.

The petitioner alleges that a customer of the subject plant is relocating to China and other countries in Southeastern Asia.

The shift in production to China and other countries by the customer is not a relevant factor in meeting the eligibility requirement of section 250 of the Trade Act.

The company further states that several companies (did not identify companies) located in the proximity of the subject firm have been certified for NAFTA-Transitional Adjustment Assistance (NAFTA) that sold similar products to the same customer as the subject firm.

The alleged NAFTA certifications of companies in the proximity of the subject firm may have been made for different reasons, such as a different product line, other customer(s) increasing their imports from Canada or Mexico or a shift in plant production to Canada or Mexico. Further review of the customer survey conducted by the Department of Labor during the initial investigation shows that the customer at issue did not report importing products like or directly competitive with what the subject plant produced from Canada or Mexico during the relevant period.

Conclusion

After review of the application and investigative findings, I conclude that there has been no error or misinterpretation of the law or of the facts which would justify reconsideration of the Department of Labor's prior decision. Accordingly, the application is denied.

Signed at Washington, DC, this 18th day of June 2002.
Edward A. Tomchick,
Director, Division of Trade Adjustment Assistance.

[FR Doc. 02-18079 Filed 7-17-02; 8:45 am]

BILLING CODE 4510-30-P